ENVIRONMENTAL PROTECTION AGENCY

[EPA-HQ-OECA-2006-0425; FRL-8247-6]

Agency Information Collection Activities: Submission to OMB for Review and Approval; Comment Request; NSPS for Industrial-Commercial-Institutional Steam Generating Units; EPA ICR Number 1088.11, OMB Control Number 2060-0072

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. The ICR, which is abstracted below, describes the nature of the information collection and its expected burden and cost.

DATES: Additional comments may be submitted on or before December 26, 2006.

ADDRESSES: Submit your comments, referencing docket ID number EPA-HQ-OECA-2006-0425, to (1) EPA online using http://www.regulations.gov (our preferred method) or by e-mail to docket.oeca@epa.gov, or by mail to: EPA Docket Center (EPA/DC), Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: For questions about this ICR, contact Zofia Kosim, Air Enforcement Division, Office of Civil Enforcement, Mail Code 2242A, Environmental Protection Agency, 1200 Pennsylvania Avenue, NW., Washington, DC 20460; phone number: (202) 564-8733; fax number: (202) 564-0068; e-mail address: kosim.zofia@epa.gov. Refer to EPA ICR Number 1088.11.

SUPPLEMENTARY INFORMATION: EPA has submitted the following ICR to OMB for review and approval according to the procedures prescribed in 5 CFR 1320.12. On June 21, 2006 (71 FR 35652), EPA sought comments on this ICR pursuant to 5 CFR 1320.8(d). EPA received no comments.

EPA has established a public docket for this ICR for online viewing at http://www.regulations.gov or in person viewing, docket ID number EPA-HQ-OECA-2006-0425, which is available at the Enforcement and Compliance Docket in the EPA Docket Center (EPA/DC), EPA West Building, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket Room is (202) 566-1927.

Use EPA's electronic docket and comments system at http://www.regulations.gov to submit or view public comments, access the index listing of the contents of the public docket, and to access those documents in the public docket that are available electronically. Once in the system, select “search,” then key in the docket ID number identified above. Please note that EPA's policy that public comments, whether submitted electronically or in paper, will be made available for public viewing at http://www.regulations.gov, as EPA receives them and without change, unless the comment contains copyrighted material, CBI, or other information whose public disclosure is restricted by statute. For further information about the electronic docket, go to http://www.regulations.gov.

Title: NSPS for Industrial-Commercial-Institutional Steam Generating Units.

ICR Numbers: EPA ICR Number 1088.11, OMB Control Number 2060-0072.

ICR Status: This is a request to renew an existing approved collection that is scheduled to expire on November 30, 2006. Under the OMB regulations, the Agency may continue to conduct or sponsor the collection of information while this submission is pending at OMB. An Agency may not conduct, or sponsor, and a person is not required to respond to, a collection of information unless it displays a currently valid OMB number. The OMB control numbers for EPA's regulations in title 40 of the CFR, after appearing in the Federal Register when approved, are listed in 40 CFR part 9, and displayed either by publication in the Federal Register, or by other appropriate means, such as on the related collection instrument or form, if applicable. The display of OMB control numbers in certain EPA regulations is consolidated in 40 CFR part 9.

Abstract: The Environmental Protection Agency (EPA) is required under section 111 of the Clean Air Act, as amended, to collect data. The information will be used by Agency enforcement personnel to: (1) Identify existing sources subject to these standards; (2) ensure that the subject sources comply with the requirements; and (3) ensure that the control device is properly operated and maintained on a continuous basis. In addition, records and reports are necessary to enable the EPA to identify boilers that may not be in compliance with these standards. Based on reported information, the EPA can decide which boilers should be inspected and what records or processes should be inspected at the boiler. The records that operators maintain would indicate to the EPA whether the personnel are operating and maintaining control equipment properly. The types of data required are principally emissions data and would not be confidential. If any information is submitted to the EPA for which a claim of confidentiality is made, the information would be safeguarded according to the Agency policies set forth in 40 CFR, chapter 1, part 2, subpart B.

An Agency may not conduct, or sponsor, and a person is not required to respond to, a collection of information unless it displays a currently valid OMB number. The OMB control numbers for EPA's regulations are listed in 40 CFR part 9. The Federal Register document required under 5 CFR 1320.8(d) for soliciting comments on this collection of information was published on June 21, 2006. No comments were received.

Burden Statement: The annual public reporting and recordkeeping burden for this collection of information is estimated to average 200 hours per response. Burden means the total time, effort, or financial resources expended by persons to generate, maintain, retain, or disclose, or provide information to, or for a Federal agency. This includes the time needed to review instructions; develop, acquire, install, and utilize technology and systems for the purposes of collecting, validating, and verifying information, processing and maintaining information, and disclosing and providing information; adjust the existing ways to comply with any previously applicable instructions and requirements; train personnel to respond to a collection of information; search data sources; complete and review the collection of information; and transmit, or otherwise disclose the information.

Respondents/Affected Entities: Owners or operators of fossil-fuel-fired steam generating units.

Estimated Number of Respondents: 1,230.

Frequency of Response: Semiannually, quarterly for electronic.

Estimated Total Annual Hour Burden: 591,389.

Estimated Total Annual Cost: $59,384,435, which includes $9,000,000 annualized capital and $17,775,000 operation and maintenance costs.

Changes in the Estimates: There is no change in the hours or cost in the total estimated burden currently identified in the OMB Inventory of Approved ICR Burdens.

Dated: November 17, 2006.
Oscar Morales,
Director, Collection Strategies Division.

[FR Doc. E6-19880 Filed 11-22-06; 8:45 am]

BILLING CODE 6560-50-P